DEPARTMENT OF COMMERCE

Patent and Trademark Office

[Docket No.: PTO-C-2025-0116]

Performance Review Board

AGENCY: United States Patent and Trademark Office, Commerce.

ACTION: Notice.

SUMMARY: In conformance with the Civil Service Reform Act of 1978, the United States Patent and Trademark Office (USPTO) announces the appointment of persons to serve as members of its Performance Review Board (PRB). The PRB reviews and makes recommendations concerning proposed performance appraisals, ratings, bonuses, pay adjustments, and other appropriate personnel actions for incumbents of Senior Level and Senior Executive Service positions at the USPTO.

ADDRESSES: Office of Human Resources, USPTO, P.O. Box 1450, Alexandria, VA 22313-1450.

FOR FURTHER INFORMATION CONTACT: Carolyn Schad, Acting Director, Human Capital Management, USPTO, at 571-272-7003.

SUPPLEMENTARY INFORMATION: The membership of the USPTO's PRB is as follows:

Coke M. Stewart, Chair, Acting Under Secretary of Commerce for Intellectual Property and Acting Director of the USPTO

William Covey, Acting Deputy Under Secretary of Commerce for Intellectual Property and Acting Deputy Director of the USPTO

Christopher J. Shipp, Chief of Staff, USPTO

Anne T. Mendez, Vice Chair, Acting Chief Administrative Officer, USPTO

Valencia Martin-Wallace, Acting Commissioner for Patents, USPTO

Coke M. Stewart,
Acting Under Secretary of Commerce for Intellectual Property and Acting Director of the United States Patent and Trademark Office.

[FR Doc. 2025-14058 Filed 7-24-25; 8:45 am]

BILLING CODE 3510-16-P